DEPARTMENT OF DEFENSE

Office of the Secretary

Federal Advisory Committee; Western Hemisphere Institute for Security Cooperation Board of Visitors; Charter Renewal

AGENCY: Department of Defense (DoD).

ACTION: Renewal of federal advisory committee.

SUMMARY: Under the provisions of the Federal Advisory Committee Act of 1972, (5 U.S.C. Appendix, as amended), the Government in the Sunshine Act of 1976 (5 U.S.C. 552b, as amended), and 41 CFR 102-3.50, the Department of Defense gives notice that it is renewing the charter for the Western Hemisphere Institute for Security Cooperation Board of Visitors (hereafter referred to as the Board).

FOR FURTHER INFORMATION CONTACT: Jim Freeman, Deputy Committee Management Officer for the Department of Defense, 703-601-6128.

SUPPLEMENTARY INFORMATION: The Board is a non-discretionary federal advisory committee and shall examine and advise on overall management and governance of the Department of Defense.

The Board shall provide the Secretary of Defense, through the Secretary of the Army, independent advice and recommendations on matters pertaining to the operations and management of the Institute. Under the provisions of 10 U.S.C. 2166(e), the Board shall:

a. Inquire into the curriculum instructions, physical equipment, fiscal affairs, and academic methods of the Institute that the Board decides to consider, and any other matter that the Secretary of Defense determines appropriate.

b. Review the curriculum to determine whether it adheres to U.S. doctrine, complies with applicable U.S. laws and regulations, and is consistent with U.S. policy goals toward the Western Hemisphere.

c. Determine whether the Institute emphasizes human rights, including the rule of law, due process, civilian control of the military, and the role of the military in a democratic society.

As prescribed by 10 U.S.C. 2166(e)(1), as amended, the Board will be composed of no less than 14 members:

a. Two Members of the Senate (the Chair and Ranking Member of the Armed Services Committee or their designees);

b. Two Members of the House of Representatives (the Chair and Ranking Member of the Armed Services Committee or their designees);

c. One person designated by the Secretary of State; the senior military officer responsible for training and education in the U.S. Army (or designee); the commanders of the combatant commands with geographic responsibility for the Western Hemisphere (or designee); and

d. Six persons designated by the Secretary of Defense, including, to the extent practicable, persons from academia, religious institutions, and human rights communities.

Board members shall be appointed by the Secretary of Defense, and their appointments will be renewed on an annual basis. Board members appointed by the Secretary of Defense shall be appointed for a 2-year term, which may be extended for an additional term of 2 years. Those members, who are not full-time or permanent part-time federal officers or employees, shall be appointed as experts and consultants under the authority of 5 U.S.C. 3109, and serve as special government employees. With the exception of travel and per diem for official travel, Board Members shall serve without compensation.

Whenever possible, appointments shall be staggered to avoid complete turnover of Board's Members at any one time. In addition, the Board may be assisted by non-voting subject matter experts or consultants. These consultants are designated at the request of the Board by the Secretary of the Army with the concurrence of the Secretary of Defense.

With DoD approval, the Board is authorized to establish subcommittees, as necessary and consistent with its mission. These subcommittees or working groups shall operate under the provisions of the Federal Advisory Committee Act of 1972, the Government in the Sunshine Act of 1976 (5 U.S.C. 552b, as amended), and other appropriate Federal statutes and regulations.

Such subcommittees or workgroups shall not work independently of the chartered Board, and shall report all their recommendations and advice to the Board for full deliberation and discussion. Subcommittees or workgroups have no authority to make decisions on behalf of the chartered Board nor can they report directly to the Department of Defense or any Federal officers or employees who are not Board members.

Subcommittee members, who are not Board members, shall be appointed in the same manner as the Board members.

The Board shall meet at the call of the Board's Designated Federal Officer, in consultation with the Chairperson. The estimated number of Board meetings is two per year.

The Designated Federal Officer, pursuant to DoD policy, shall be a full-time or permanent part-time DoD employee, and shall be appointed in accordance with established DoD policies and procedures. In addition, the Designated Federal Officer is required to be in attendance at all meetings, however, in the absence of the Designated Federal Officer, the Alternate Designated Federal Officer shall attend the meeting.

Pursuant to 41 CFR 102-3.105(j) and 102-3.140, the public or interested organizations may submit written statements to the Board's mission and functions. Written statements may be submitted at any time or in response to the stated agenda of planned meetings of the Board.

All written statements shall be submitted to the Board's Designated Federal Officer, and this individual will ensure that the written statements are provided to the membership for their consideration. Contact information for the Designated Federal Officer can be obtained from the GSA's FACA Database— https://www.fido.gov/facadatabase/public.asp.

The Designated Federal Officer, pursuant to 41 CFR 102-3.150, will announce planned meetings of the Board. The Designated Federal Officer, at that time, may provide additional guidance on the submission of written statements that are in response to the stated agenda for the planned meeting in question.

Dated: January 28, 2010.
Mitchell S. Bryman,
Alternate OSD Federal Register Liaison Officer, Department of Defense.

[FR Doc. 2010-2162 Filed 2-1-10; 8:45 am]

BILLING CODE 5001-06-P